DEPARTMENT OF ENERGY

[OE Docket No. EA-427]

Application To Rescind and Issue and Authorization To Export Electric Energy; Emera Maine

AGENCY: Office of Electricity Delivery and Energy Reliability, DOE.

ACTION: Notice of application.

SUMMARY: Emera Maine (Applicant or Emera Maine) has applied for authority to rescind Export Authorization Order E-6751 and for the coincident issuance of an authorization to transmit electric energy from the United States to Canada pursuant to section 202(e) of the Federal Power Act.

DATES: Comments, protests, or motions to intervene must be submitted on or before October 20, 2016.

ADDRESSES: Comments, protests, motions to intervene, or requests for more information should be addressed to: Office of Electricity Delivery and Energy Reliability, Mail Code: OE-20, U.S. Department of Energy, 1000 Independence Avenue SW., Washington, DC 20585-0350. Because of delays in handling conventional mail, it is recommended that documents be transmitted by overnight mail, by electronic mail to Electricity.Exports@hq.doe.gov, or by facsimile to 202-586-8008.

SUPPLEMENTARY INFORMATION: Exports of electricity from the United States to a foreign country are regulated by the Department of Energy (DOE) pursuant to sections 301(b) and 402(f) of the Department of Energy Organization Act (42 U.S.C. 7151(b), 7172(f)) and require authorization under section 202(e) of the Federal Power Act (16 U.S.C. 824a(e)).

On March 31, 2016, DOE received an application from Emera Maine to rescind DOE Order E-6751 issued to Maine Public Service Company on December 5, 1963 for authority to transmit electric energy from the United States to Canada and to issue a new Export Authorization to Emera Maine. Emera Maine is a new company formed when Maine Public Service Company and Bangor Hydro Electric Company merged. Emera Maine is requesting to export electric energy over facilities currently covered by Presidential permit that they own as well as any facilities at the U.S.-Canada border appropriate for third party access. In its application, Emera Maine states that it will make all necessary commercial arrangements and will obtain any and all other regulatory approvals required in order to export electric energy. The existing international transmission facilities to be utilized by the Applicant have previously been authorized by Presidential permits issued pursuant to Executive Order 10485, as amended, and are appropriate for open access transmission by third parties.

Procedural Matters: Any person desiring to be heard in this proceeding should file a comment or protest to the application at the address provided above. Protests should be filed in accordance with Rule 211 of the Federal Energy Regulatory Commission's (FERC) Rules of Practice and Procedures (18 CFR 385.211). Any person desiring to become a party to these proceedings should file a motion to intervene at the above address in accordance with FERC Rule 214 (18 CFR 385.214). Five copies of such comments, protests, or motions to intervene should be sent to the address provided above on or before the date listed above.

Comments and other filings concerning Emera Maine's application to export electric energy to Canada should be clearly marked with OE Docket No. EA-427. An additional copy is to be provided to Tim Pease, Director, Legal & Regulatory Affairs AND Chad Wilcox, Manager, Rates, Emera Maine, P.O. Box 932, Bangor, ME 04401 AND Bonnie A. Suchman, Suchman Law LLC, 8104 Paisley Place, Potomac, MD 20854.

A final decision will be made on this application after the environmental impacts have been evaluated pursuant to DOE's National Environmental Policy Act Implementing Procedures (10 CFR part 1021) and after a determination is made by DOE that the proposed action will not have an adverse impact on the sufficiency of supply or reliability of the U.S. electric power supply system.

Copies of this application will be made available, upon request, for public inspection and copying at the address provided above, by accessing the program Web site at http://energy.gov/node/11845, or by emailing Angela Troy at Angela.Troy@hq.doe.gov.

Issued in Washington, DC, on September 14, 2016.
Christopher Lawrence,
Electricity Policy Analyst, Office of Electricity Delivery and Energy Reliability.

[FR Doc. 2016-22621 Filed 9-19-16; 8:45 am]

BILLING CODE 6450-01-P